ADVISORY COUNCIL ON HISTORIC PRESERVATION

Performance Review Board Appointments

AGENCY: Advisory Council on Historic Preservation.

ACTION: Notice of performance review board appointments.

SUMMARY: This notice provides the names of individuals who have been appointed to serve as members of the Performance Review Board for the Advisory Council on Historic Preservation.

DATES: These appointments are effective upon publication in the Federal Register.

FOR FURTHER INFORMATION CONTACT: Ralston Cox, Director, Office of Administration, Advisory Council on Historic Preservation, Room 809, 1100 Pennsylvania Avenue, NW., Washington, DC 20004-2501. Telephone Number: (202) 606-8528.

Senior Executive Service Performance Review Board

The following individuals have been appointed to serve on the Performance Review Board for the Advisory Council on Historic Preservation.

Bernadette Castro, Vice Chairman of the Advisory Council on Historic Preservation and Commissioner, New York State Office of Parks, Recreation, and Historic Preservation;

Nelson R. Bregon, Deputy Assistant Secretary for Grant Programs, Office of Community Planning and Development, U.S. Department of Housing and Urban Development;

Patrick J. Meehan, Jr., Director, Program Integration, Office of the Deputy Undersecretary of Defense for Installations and Environment, U.S. Department of Defense;

Anthony E. Costa, Assistant Regional Administrator, Public Buildings Service, National Capital Region, General Services Administration;

John C. Surina, Deputy Assistant Secretary for Administration, U.S. Department of Agriculture.

Dated: June 30, 2003.
Ralston Cox,
Director, Office of Administration, Advisory Council on Historic Preservation.

[FR Doc. 03-16936 Filed 7-2-03; 8:45 am]

BILLING CODE 4310-10-M